DEPARTMENT OF COMMERCE

Census Bureau

Agency Information Collection Activities; Submission to the Office of Management and Budget (OMB) for Review and Approval; Comment Request; Special Census Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 25, 2022, during a 60-day comment period. This notice allows for an additional 30 days for public comments.

Agency: U.S. Census Bureau, Department of Commerce.

Title: Special Census Program.

OMB Control Number: 0607-0368.

Form Number(s): SC-Q, SC-Q(S), SC-CQ, SC-CQ(S), SC-Q-TL, SC-Q-TL(S), SC-CQ-TL, SC-CQ-TL(S), SC-Q-GE, SC-Q-GE(S), SC-RQ, SC-RQ(S), SC-900.

Type of Request: Regular submission, Request for Reinstatement, with Change, of a Previously Approved Collection.

Number of Respondents: 357,080 (annual estimate). The number of respondents was incorrectly listed as 340,000 on the 60-day Federal Register Notice. The number has been updated to account for quality control reinterview and Governmental Units requesting a Cost Estimate.

Average Hours per Response: Approximately 10 minutes for the Special Census data collection and 45 minutes for the Governmental Unit Cost Estimate Request form.

Burden Hours: 59,560 (annual estimate). The number of burden hours was incorrectly listed as 56,667 on the 60-day Federal Register Notice. The number has been updated to account for quality control reinterview and Governmental Units requesting a Cost Estimate.

Needs and Uses: A Special Census is a basic enumeration of population, housing units, group quarters, and units at transitory locations, conducted by the Census Bureau at the request of a Governmental Unit. Title 13, United States Code, section 196 authorizes the Census Bureau to conduct Special Censuses on a cost reimbursable basis for the government of any state, county, city, or other political subdivision. This includes the District of Columbia, American Indian Reservations, Alaska Native villages, Puerto Rico, the U.S. Island Areas, and other Governmental Units that require current population data between decennial censuses.

A full Special Census is a basic enumeration of population, housing units, group quarters, and units at transitory locations for an area entirely within the jurisdiction of a local Governmental Unit requesting the Special Census. A partial Special Census is conducted using the same methodologies and procedures as a regular or full Special Census, but it is for a subset of areas within the jurisdiction of the local Governmental Unit. The areas requested in a partial Special Census must contain at least one full tract that is completely within the jurisdiction of the Governmental Unit and can contain additional contiguous tracts or blocks. For example, Governmental Units may choose to conduct a partial Special Census with just those tracts that might have experienced a large population growth or a boundary change.

Local officials frequently request a Special Census when there has been a significant population change in their community due to annexation, boundary changes, growth, or the addition of new group quarters facilities. Communities may also consider a Special Census if there was a significant number of vacant housing units during the previous decennial census that are now occupied. Many states use Special Census population statistics to determine the distribution of state funds to local jurisdictions. Local jurisdictions may use the data to plan new schools, transportation systems, housing programs, or water treatment facilities.

The 2020 Special Census Program will accept requests for cost estimates from Governmental Units starting in March 2023 and continuing through May 2027; data collection will start no earlier than January 2024 and will continue through September 2028. Governmental Units will complete a Cost Estimate Request form (SC-900) to request a Special Census. Additional information will be announced on the Census Bureau website.

A Cost Estimate Request form (SC-900) will be available on the Census Bureau website by February 2023. Governmental Units will submit this form to the Census Bureau. Once this form has been reviewed by the Census Bureau, the Governmental Unit and the Census Bureau will coordinate to identify the exact geographic boundaries for the Special Census. Then the Special Census Program will coordinate within the Census Bureau to determine a cost estimate and timeline for the Special Census and will present them to the Governmental Unit. The cost of a Special Census varies depending on the Governmental Unit's housing and population counts and whether a Governmental Unit requests a full or partial Special Census. The cost estimate outlines the anticipated costs to the sponsoring Governmental Unit for staffing, materials, data processing and tabulation. Included with the cost estimate is a Memorandum of Agreement. Once a signed Memorandum of Agreement and initial payment are transmitted to the Census Bureau, the Special Census process will begin.

For the 2020 Special Census Program, the Census Bureau will use an internet self-response instrument for respondents to self-respond to the Special Census questionnaire. Respondents will have a number of weeks to respond to the Special Census questionnaire using the internet self-response instrument. At the start of the Special Census, the Census Bureau will send an invitation letter to known housing units in the Governmental Unit's Special Census area with information needed to respond online. Reminder letters and postcards will be sent to each known housing unit to encourage self-response and provide information needed to do so.

After the end of the Special Census self-response period, the Census Bureau will conduct follow-up operations in the field to enumerate housing units that did not respond using the internet self-response instrument as well as housing units that did not receive mailed materials. These housing units will be contacted by a field representative who will conduct a Special Census interview using a paper questionnaire. The field operations will also enumerate group quarters and transitory locations in the Governmental Unit's Special Census area using a paper questionnaire. During the field operations, Special Census field representatives will conduct listing to verify the current address lists for the Special Census area and add, delete, or update the addresses of living quarters as needed, based on their observation of housing units, transitory locations, and group quarters. The Special Census questionnaires will collect the same information that was gathered during the 2020 Census.

Several quality assurance measures will be implemented for each Special Census to ensure that high-quality data are gathered using the most efficient and cost-effective procedures. These include edits incorporated into the online questionnaire and the ability to validate potentially erroneous responses in the field. Independent quality assurance checks, such as initial field representative observation and review of completed questionnaires, will be conducted by field supervisors and office staff. Quality control field supervisors will conduct the Dependent Quality Check to verify that production field representatives performed all listing and mapping tasks completely and accurately. Reinterview of a sample of field questionnaires will also be implemented by a quality control field representative to ensure the quality of the data collected in the field.

The 2020 Census disclosure avoidance methodology will be used with a few changes for the Special Census Program. The minimum statistical area for which any partial Special Censuses can be conducted is a 2020 Census tabulation tract. This is different from the 2010 Special Census Program where partial Special Censuses were done by block. Due to this change in methodology, only Governmental Units whose jurisdictions encompass one or more 2020 Census tracts will be able to request a partial Special Census. Furthermore, this methodological change necessitates that a block or tract can only be included in a Special Census one time between 2023 and 2028. A Governmental Unit may request multiple partial Special Censuses, but they cannot be of overlapping areas. Finally, the geography included in the Special Census will impact which data products the Governmental Units receive based on disclosure avoidance considerations. Some Governmental Units will not receive the full suite of data products; however, for those impacted Governmental Units, the Census Bureau will define the allowable data products that the Governmental Unit will receive prior to signing the Memorandum of Agreement.

Governmental Units that request a Special Census will receive the data files by email once data processing and disclosure avoidance have been completed for the Special Census. The data will also be posted at data.census.gov for public use. These data will not be used to update official 2020 Census data products and apportionment counts, but they may be used to update data in the Census Bureau's Population Estimates Program.

Changes from the 60-day Federal Register Notice include the change in the estimated number of respondents and respondent burden hours. In addition, the application fee has been eliminated; the Special Census Program will no longer require Governmental Units to pay a fee when submitting a Special Census Cost Estimate Request form.

As the Census Bureau develops automated tools and methods for data collection and listing for the 2030 Decennial Census, the Special Census Program may incorporate this additional automation throughout the decade. Updates to the operational design will be implemented no earlier than 2026. The incorporation of additional automation may increase data collection quality and efficiency, resulting in a cost savings for Governmental Units, but the extent of those cost savings is currently unknown.

Affected Public: Individuals or households; State, Local, or Tribal government.

Frequency: As requested by Government Units. Each tract or block can only be enumerated one time during the 2020 Special Census Program (between 2023 and 2028).

Respondent's Obligation: Voluntary.

Legal Authority: Title 13 U.S.C. 196.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0368.

Sheleen Dumas,
Department PRA Clearance Officer, Office of the Chief Information Officer, Department of Commerce.

[FR Doc. 2022-22951 Filed 10-20-22; 8:45 am]

BILLING CODE 3510-07-P